DEPARTMENT OF AGRICULTURE

Grain Inspection, Packers and Stockyards Administration

Opportunity for Designation in the Pocatello, ID; Lewiston, ID; Evansville, IN; and Utah Areas and Request for Comments on the Official Agencies Serving These Areas

AGENCY: Grain Inspection, Packers and Stockyards Administration, USDA.

ACTION: Notice.

SUMMARY: The designations of the official agencies listed below will end on September 30, 2009. We are asking persons or governmental agencies interested in providing official services in the areas served by these agencies to submit an application for designation. We are also asking for comments on the quality of services provided by these currently designated agencies:

Idaho Grain Inspection Service, Inc. (Idaho);

Lewiston Grain Inspection Service, Inc. (Lewiston);

Ohio Valley Grain Inspection, Inc. (Ohio Valley); and

Utah Department of Agriculture and Food (Utah).

DATES: Applications and comments must be received on or before April 1, 2009.

ADDRESSES: We invite you to submit applications and comments on this notice by any of the following methods:

• To apply for designation, go to “FGISonline” at https://fgis.gipsa.usda.gov/default_home_FGIS.aspx then select Delegations/Designations and Export Registrations (DDR). You will need a USDA e-authentication, username, password, and a customer number prior to applying.

• Hand Delivery or Courier: Karen Guagliardo, Review Branch Chief, Compliance Division, GIPSA, USDA, Room 1647-S, 1400 Independence Avenue, SW., Washington, DC 20250.

• Fax: (202) 690-2755, to the attention of: Karen Guagliardo.

• E-mail: Karen.W.Guagliardo@usda.gov.

• Mail: Karen Guagliardo, Review Branch Chief, Compliance Division, GIPSA, USDA, STOP 3604, 1400 Independence Avenue, SW., Washington, DC 20250-3604.

• Internet: Go to http://www.regulations.gov. Follow the online instructions for submitting and reading comments online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services.

Under section 7(g)(1) of the USGSA, designations of official agencies are effective for 3 years unless terminated by the Secretary, but may be renewed according to the criteria and procedures prescribed in section 7(f) of the Act.

Areas Open for Designation

Idaho

Pursuant to Section 7(f)(2) of the Act, the following geographic area, in the State of Idaho, is assigned to this official agency:

The southern half of the State up to the northern boundaries of Adams, Valley, and Lemhi Counties.

Lewiston

Pursuant to Section 7(f)(2) of the Act, the following geographic area, in the States of Idaho and Oregon, is assigned to this official agency:

In Idaho:

The northern half of the state down to the northern boundaries of Adams, Valley, and Lemhi Counties.

In Oregon:

The entire state of Oregon, except those export port locations within the State which are serviced by GIPSA.

Ohio Valley

Pursuant to Section 7(f)(2) of the Act, the following geographic area, in the States of Indiana, Kentucky, and Tennessee, is assigned to this official agency:

In Indiana:

Daviess, Dubois, Gibson, Knox (except the area west of U.S. Route 41 (150) from Sullivan County south to U.S. Route 50), Pike, Posey, Vanderburgh, and Warrick Counties.

In Kentucky:

Caldwell, Christian, Crittenden, Henderson, Hopkins (west of State Route 109 south of the Western Kentucky Parkway), Logan, Todd, Union, and Webster (west of Alternate U.S. Route 41 and State Route 814) Counties.

In Tennessee:

Cheatham, Davidson, and Robertson Counties, Tennessee.

Utah

Pursuant to Section 7(f)(2) of the Act, the entire State of Utah is assigned to this official agency.

Opportunity for Designation

Interested persons or governmental agencies, including Idaho, Lewiston, Ohio Valley, and Utah, may apply for designation to provide official services in the geographic areas specified above under the provisions of section 7(f) of the USGSA and 7 CFR 800.196(d). Designation in the specified geographic areas is for the period beginning October 1, 2009, and ending September 30, 2012. To apply for designation or for more information contact the Compliance Division at the address listed above or visit the GIPSA Web site at http://www.gipsa.usda.gov.

Request for Comments

We are publishing this notice to provide interested persons the opportunity to comment on the quality of services provided by the Idaho, Lewiston, Ohio Valley, and Utah official agencies. In the designation process, we are particularly interested in receiving comments citing reasons and pertinent data supporting or objecting to the designation of the applicants. Submit all comments to the Compliance Division at the above address or at http://www.regulations.gov.

In determining which applicant will be designated, we will consider applications, comments, and other available information.

Authority: 7 U.S.C. 71-87k.

Alan R. Christian,
Acting Administrator, Grain Inspection, Packers and Stockyards Administration.

[FR Doc. E9-5985 Filed 3-18-09; 8:45 am]

BILLING CODE 3410-KD-P